SECURITIES AND EXCHANGE COMMISSION

Sunshine Act Meeting

Notice is hereby given, pursuant to the provisions of the Government in the Sunshine Act, Public Law 94-409, that the Securities and Exchange Commission will hold a credit ratings roundtable discussion on Tuesday, May 14, 2013, in the Auditorium, Room, L-002, beginning at 9:00 a.m. Doors will open at 8:30 a.m. and seating will be available on a first-come, first-served basis. Visitors will be subject to security checks. The roundtable will be webcast on the Commission's Web site at www.sec.gov and will be archived for later viewing.

On April 23, 2013, the Commission published notice of the roundtable discussion (Release No. 34-69433), indicating that the event is open to the public and inviting the public to submit written comments to the Commission. This Sunshine Act notice is being issued because a majority of the Commission may attend the roundtable discussion. The agenda for the roundtable includes opening remarks followed by three panel discussions. The first panel will examine issues in connection with the possibility of developing a credit rating assignment system. The second panel will discuss the effectiveness of the Commission's current system under the Securities Exchange Act of 1934 for encouraging unsolicited ratings of asset-backed securities. The third panel will focus on other potential alternatives to the current issuer pay business model.

For further information, please contact the Office of the Secretary at (202) 551-5400.

Dated: May 3, 2013.
Elizabeth M. Murphy,
Secretary.

[FR Doc. 2013-10936 Filed 5-3-13; 4:15 pm]

BILLING CODE 8011-01-P